ENVIRONMENTAL PROTECTION AGENCY

[ER-FRL-6662-8]

Environmental Impact Statements; Notice of Availability

Responsible Agency: Office of Federal Activities, General Information (202) 564-7167 or http://www.epa.gov/compliance/nepa/.

Weekly receipt of Environmental Impact Statements filed April 18, 2005 through April 22, 2005 pursuant to 40 CFR 1506.9.

EIS No. 20050165, Draft EIS, NPS, AK, Denali National Park and Preserve Revised Draft Backcountry Management Plan, General Management Plan Amendment, Implementation, AK, Comment Period Ends: June 30, 2005, Contact: Anne D. Castelina (202) 208-6381.

EIS No. 20050166, Draft EIS, AFS, CA, Brown Project, Proposal to Improve Forest Health by Reducing Overcrowded Forest Stand Conditions, Trinity River Management Unit, Shasta-Trinity National Forest, Weaverville Ranger District, Trinity County, CA, Comment Period Ends: June 13, 2005, Contact: J. Sharon Heywood (530) 226-2500.

EIS No. 20050167, Final EIS, AFS, WV, Fernow Experimental Forest, To Continue Long-Term Research and Initiate New Research, Involving Removal of Trees, Prescribed Burning, Stem Injection of Selected of Trees, Control Invasive Plant Species, Northeastern Research Station, Parson, Tucker County, WV, Comment Period Ends: May 31, 2005, Contact: Mary Beth Adams (304) 478-2000.

EIS No. 20050168, Draft EIS, BLM, AK, East Alaska Draft Resource Management Plan (RMP), Provide a Single Comprehensive Land Use Plan, Glennallen Field Office District, AK, Comment Period Ends: July 28, 2005, Contact: Bruce Rogers (907) 822-3217.

EIS No. 20050169, Final EIS, BLM, MT, Dillon Resource Management Plan, Provide Direction for Managing Public Lands within the Dillon Field Office, Implementation, Beaverhead and Madison Counties, MT, Wait Period Ends: May 31, 2005, Contact: Renee Johnson (406) 683-8016.

EIS No. 20050170, Final EIS, DOE, CA, Site-wide Continued Operation of Lawrence Livermore National Laboratory (LLNL) and Stockpile Stewardship and Management, Implementation, Alameda and San Joaquin Counties, CA, Wait Period Ends: May 31, 2005, Contact: Tom Grim (925) 422-0704.

EIS No. 20050171, Final EIS, AFS, NV, Jarbidge Canyon Project, Road Management Plan Implementation, Water Projects Construction along Charleston-Jarbidge Road and South Canyon Road Reconstruction, Humbolt-Toiyabe National Forest, Jarbidge Ranger District, Elko County, NV, Wait Period Ends: May 31, 2005, Contact: James Winfrey (775) 778-6129.

EIS No. 20050172, Final EIS, NRC, AR, Generic-License Renewal of Nuclear Plants, Arkansas Nuclear One, Unit 2 (Tac. Nos. MB 8405) Supplement 19 to NUREG-1437, Operating License Renewal, Pope County, AR, Wait Period Ends: May 31, 2005, Contact: Thomas Kenyon (301) 415-1120.

EIS No. 20050173, Draft EIS, NRC, MS, Grand Gulf Early Site Permit, Construction and Operation, Issuance of an Early Site Permit (ESP), NUREG-1817, Claiborne County, MS, Comment Period Ends: July 14, 2005, Contact: James Wilson (301) 415-1108.

EIS No. 20050174, Draft EIS, FHW, CO, I-25 Valley Highway Project, Transportation Improvement from Logan to U.S. 6, Douglas County, CO, Comment Period Ends: June 14, 2005, Contact: Chris Horn (720) 963-3017.

Amended Notices

EIS No. 20050096, Draft EIS, NRC, IL, Early Site Permit (ESP) at the Exelon ESP Site, Application for ESP on One Additional Nuclear Unit, within the Clinton Power Station (CPS), NUREG-1815, DeWitt County, IL, Comment Period Ends: May 25, 2005, Contact: Thomas Kenyon (301) 415-1120. Revision of FR Notice Published on 3/11/2005: CEQ Comment Period Ending on 4/25/2005 has been Extended to 5/25/2005.

EIS No. 20050137, Draft EIS, AFS, VT, Green Mountain National Forest, Propose Revised Land and Resource Management Plan, Implementation Forest Plan Revision, Addison, Bennington, Rutland, Washington, Windham and Windsor Counties, VT, Comment Period Ends: July 5, 2005, Contact: Jay Strand (802) 767-4261.

Revision of FR Notice Published on 4/01/05: CEQ Comment Period Ending 6/30/2005 has been Extended to 7/05/2005.

Dated: April 26, 2005.
Ken Mittelholtz,
Environmental Protection Specialist, Office of Federal Activities.

[FR Doc. 05-8613 Filed 4-28-05; 8:45 am]

BILLING CODE 6560-50-P